NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 13, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note the New Address for Requesting Schedules Using E-Mail)

1. Department of Defense, Defense Logistics Agency (N1-361-05-3, 2 items, 2 temporary items). An agency-wide schedule that consists of records used in preparing press releases for distribution to hometown newspapers and broadcast stations concerning the activities and accomplishments of agency personnel. Also included are electronic copies of records created using electronic mail and word processing.

2. Department of Health and Human Services, Centers for Disease Control and Prevention (N1-442-05-3, 2 items, 2 temporary items). Electronic copies of records created using electronic mail and word processing relating to or associated with administrative and support services, research projects, training, the National Center for Health Statistics, the Office on Safety and Health, and agency automated information systems. Recordkeeping copies of these files are covered by previously approved disposition authorities.

3. Department of Health and Human Services, Centers for Medicare and Medicaid Services, (N1-440-04-3, 4 items, 4 temporary items). Inputs, data, documentation, and electronic mail and word processing copies associated with an electronic information system used to process Medicare claims. This schedule authorizes the agency to apply the proposed disposition instructions to any recordkeeping medium.

4. Department of Health and Human Services, Food and Drug Administration (N1-88-06-1, 8 items, 8 temporary items). Program management files, and inputs, outputs, master files, and electronic mail and word processing copies associated with an electronic information system used to monitor institutional compliance with mammography quality standards. This schedule authorizes the agency to apply the proposed disposition instructions to any recordkeeping medium.

5. Department of Homeland Security, Transportation Security Administration (N1-560-04-9, 4 items, 4 temporary items). Records of the Office of Model Workplace Program. Included are such records as agendas, evaluations, and other materials for workshops and conferences, and mediation case files relating to non-EEO complaints. Also included are electronic copies of records created using electronic mail and word processing.

6. Department of Homeland Security, Transportation Security Administration (N1-560-05-1, 16 items, 11 temporary items). Records of the Office of Transportation Security Operations Center. Included are working copies of incident management guidance, documentation of training and analytical exercises, watch logs, and incident reports, voice and video recordings of a routine nature. Also included are electronic copies of records created using electronic mail and word processing. Proposed for permanent retention are recordkeeping copies of incident management plans, major incident reports, and voice and video recordings relating to an investigation or major incident.

7. Department of Homeland Security, Transportation Security Administration (N1-560-06-2, 6 items, 6 temporary items). Inputs, outputs, master files, system documentation, and electronic mail and word processing copies associated with an electronic information system used to schedule Federal air marshals on commercial airline flights.

8. Department of Homeland Security, Transportation Security Administration (N1-560-06-3, 6 items, 6 temporary items). Inputs, outputs, master files, system documentation, and electronic mail and word processing copies associated with an electronic information system used to maintain personnel data on Federal Air Marshal Service employees.

9. Department of Homeland Security, U.S. Citizenship and Immigration Service (N1-563-04-6, 7 items, 4 temporary items). Inputs, outputs, and electronic mail and word processing copies associated with an electronic information system used to manage the applications of individuals seeking affirmative asylum in the United States. Proposed for permanent retention are the recordkeeping copies of the system master files and documentation.

10. Department of Homeland Security, U.S. Citizenship and Immigration Service (N1-563-04-7, 7 items, 4 temporary items). Inputs, outputs, and electronic mail and word processing copies associated with an electronic information system used to manage the applications of individuals seeking defensive asylum in the United States. Proposed for permanent retention are the recordkeeping copies of the system master files and documentation.

11. Department of Homeland Security, U.S. Coast Guard (N1-26-05-7, 3 items, 3 temporary items). Law enforcement chronological files consisting of copies of outgoing correspondence, whale safety broadcasts, fishery management reports, and law enforcement taskings. Also included are electronic copies of records created using electronic mail and word processing.

12. Department of Homeland Security, U.S. Coast Guard (N1-26-05-13, 7 items, 7 temporary items). Records relating to the registration of undocumented vessels. Included are such records as registration applications and an associated electronic tracking system, annual State boating registration statistics, and pre-2001 bills of sale and an electronic tracking system for undocumented vessels in Alaska. Also included are electronic copies of records created using electronic mail and word processing.

13. Department of Homeland Security, U.S. Coast Guard (N1-26-05-17, 3 items, 3 temporary items). Shipping documents for sensitive conventional arms, ammunition, explosives, and classified items. Included are such records as shipping orders, bills of lading, and manifests. Also included are electronic copies of records created using electronic mail and word processing.

14. Department of Homeland Security, U.S. Coast Guard (N1-26-05-18, 3 items, 3 temporary items). Individual employee hazardous materials training records, including training dates and descriptions, test results, certifications of completion, and other related information. Also included are electronic copies of records created using electronic mail and word processing.

15. Small Business Administration, Agency-wide (N1-309-04-8, 5 items, 5 temporary items). Master files, outputs, documentation, and electronic mail and word processing copies associated with a web site used by businesses, Federal agencies, and others to post subcontracting opportunities, solicitations, and related notices.

16. Small Business Administration, Office of the Chief Financial Officer (N1-309-05-15, 4 items, 4 temporary items). Inputs, outputs, master files, and documentation associated with an electronic information system used by the Denver Finance Center to reconcile and report cash activity.

17. James Madison Memorial Fellowship Foundation (N1-220-06-2, 6 items, 5 temporary items). Approved and unsuccessful fellowship applications, and related administrative files. Also included are electronic copies of records created using electronic mail and word processing. Proposed for permanent retention are recordkeeping copies of the records of the Board of Trustees, including meeting minutes, reports, briefing books, publications, and organization establishment records.

Dated: December 21, 2005.
Michael J. Kurtz,
Assistant Archivist for Records Services—Washington, DC.

[FR Doc. E5-7996 Filed 12-28-05; 8:45 am]

BILLING CODE 7515-01-P